DEPARTMENT OF THE INTERIOR

Bureau of Land Management

[NM-910-03-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on April 3-4, 2003, at the NM Tech, Macey Center, Galena Room, Olive Lane, Socorro, NM, beginning at 8 a.m. The meeting will adjourn between 4 and 5 p.m. both days. An optional Field Trip is planned for April 2 to view the Socorro off-highway vehicle area east of Johnson Hill, Sierra Ladrones Wilderness Study Area, and Ladrone Area of Critical Environmental Concern, private in-holdings, Dogs Trials, a stop at Riley to discuss cultural issues, and Box Canyon Special Management Area. The three established RAC subcommittees will meet in the late afternoon or evening on Thursday, April 3. The public comment period will begin at 10 a.m. on Friday, April 4, and end at 12 noon.

SUPPLEMENTARY INFORMATION: The 15-member Council advises the Secretary of the Interior, through the Bureau of Land Management, on a variety of planning and management issues associated with public land management in New Mexico. At this meeting, the topics we plan to discuss include: Wilderness Study Proposal, Socorro Resource Management Plan, Resource Management Plan Process.

All meetings are open to the public. The public may present written comments to the Council. Each formal Council meeting will also have time allocated for hearing public comments. Depending on the number of persons wishing to comment and time available, the time for individual oral comments may be limited. New Mexico RAC meetings are coordinated with the representative of the Governor of the State of New Mexico.

FOR FURTHER INFORMATION CONTACT: Theresa Herrera, RAC Coordinator, New Mexico State Office, Office of External Affairs, Bureau of Land Management, PO box 27115, Santa Fe, NM 87502-0115, (505) 438-7517.

Dated: February 28, 2003.
Linda S.C. Rundell,
State Director.

[FR Doc. 03-5435 Filed 2-6-03; 8:45 am]

BILLING CODE 4310-FB-M